DEPARTMENT OF ENERGY

Environmental Management Site-Specific Advisory Board, Hanford

AGENCY: Department of Energy.

ACTION: Notice of Open Meeting.

SUMMARY: This notice announces a meeting of the Environmental Management Site-Specific Advisory Board (EM SSAB), Hanford. The Federal Advisory Committee Act (Pub. L. 92-463, 86 Stat. 770) requires that public notice of this meeting be announced in the Federal Register.

DATES: Thursday, September 4, 2003; 9 a.m.-5 p.m.—Friday, September 5, 2003; 8:30 a.m.-4 p.m.

ADDRESS: Doubletree Suites Seattle, 16500 Southcenter Parkway, Seattle, WA; Phone: (206) 575-8220; Fax: (206) 575-4743.

FOR FURTHER INFORMATION CONTACT: Yvonne Sherman, Public Involvement Program Manager, Department of Energy Richland Operations Office, 825 Jadwin, MSIN A7-75, Richland, WA 99352; Phone: (509) 376-6216; Fax: (509) 376-1563.

SUPPLEMENTARY INFORMATION: Purpose of the Board: The purpose of the Board is to make recommendations to DOE and its regulators in the areas of environmental restoration, waste management, and related activities.

Tentative Agenda:

Thursday, September 4, 2003

• Tri-Party Agreement Look Back/Look Ahead: Perspectives from Tri-Party Agreement (TPA) Senior Management.

• Discussion with Tri-Party Agreement (TPA) Senior Management on Hanford Advisory Board Priorities for the Upcoming Year.

• Process for the Determination Whether There is Transuranic Waste in Certain Tanks—Discussion and Introduction of Draft Advice.

• Overall Strategy and Approach for Groundwater Protection, Monitoring and Remediation under Tri-Party Agreement (Milestone Series-24) Discussion and Introduction of Draft Advice.

• Proposed Changes to the Tri-Party Agreement Establishing New Deadlines for Tank Waste Treatment Activities (M-62). Discussion and Introduction of Draft Advice (Tentative).

Friday, September 5, 2003

• Public Involvement and Its Role/Importance in Decision-Making: Dialogue with the Tri-Party Agreement Agencies.

• Update on Hanford Long-Term Stewardship Plan.

• Informational Session on the Hanford Natural Resource Trustee Council.

• Adoption of Draft Advice:

—Process for the Determination Whether There is Transuranic Waste in Certain Tanks

—Overall Strategy and Approach for Groundwater Protection, Monitoring and Remediation under Tri-Party Agreement (Milestone Series M-24)

—Proposed Changes to the Tri-Party Agreement Establishing New Deadlines for Tank Waste Treatment (M-62) Tentative

• Announcement of Committee Leadership

• Agenda Topics for the November Hanford Advisory Board Meeting

Public Participation: The meeting is open to the public. Written statements may be filed with the Board either before or after the meeting. Individuals who wish to make oral statements pertaining to agenda items should contact Yvonne Sherman's office at the address or telephone number listed above. Requests must be received five days prior to the meeting and reasonable provision will be made to include the presentation in the agenda. The Deputy Designated Federal Officer is empowered to conduct the meeting in a fashion that will facilitate the orderly conduct of business. Each individual wishing to make public comment will be provided equal time to present their comments.

Minutes: The minutes of this meeting will be available for public review and copying at the Freedom of Information Public Reading Room, 1E-190, Forrestal Building, 1000 Independence Avenue, SW., Washington, DC 20585 between 9 a.m. and 4 p.m., Monday-Friday, except Federal holidays. Minutes will also be available by writing to Yvonne Sherman, Department of Energy Richland Operation Office, 825 Jadwin, MSIN A7-75, Richland, WA 99352; or by calling her at (509) 376-1563.

Issued at Washington, DC, on July 24, 2003.
Rachel M. Samuel,
Deputy Advisory Committee Management Officer.

[FR Doc. 03-19253 Filed 7-28-03; 8:45 am]

BILLING CODE 6450-01-P